DEPARTMENT OF TRANSPORTATION

Federal Aviation Administration

Notice of Intent To Rule on Application 03-02-C-00-MCW To Impose and Use the Revenue From a Passenger Facility Charge (PFC) at Mason City Municipal Airport, Mason City, IA

AGENCY: Federal Aviation Administration, (FAA), DOT.

ACTION: Notice of Intent to Rule on Application.

SUMMARY: The FAA proposes to rule and invites public comment on the application to impose and use the revenue from a PFC at Mason City Municipal Airport under the provisions of the Aviation Safety and Capacity Expansion Act of 1990 (Title IX of the Omnibus Budget Reconciliation Act of 1990) (Pub. L. 101-508) and part 158 of the Federal Aviation Regulations (14 CFR part 158).

DATES: Comments must be received on or before April 15, 2003.

ADDRESSES: Comments on this application may be mailed or delivered in triplicate to the FAA at the following address: Federal Aviation Administration, Central Region, Airports Division, 901 Locust Street, Kansas City, MO 64106.

In addition, one copy of any comments submitted to the FAA must be mailed or delivered to Ms. Pamela Osgood, Interim Airport Manager, Mason City Municipal Airport, at the following address: Mason City Municipal Airport, P.O. Box 2585, Mason City, IA 50402.

Air carriers and foreign air carriers may submit copies of written comments previously provided to the Mason City Municipal Airport, Mason City, Iowa, under § 158.23 of part 158.

FOR FURTHER INFORMATION CONTACT: Lorna Sandridge, PFC Program Manager, FAA, Central Region, 901 Locust Street, Kansas City, MO 64106, (816) 329-2641. The application may be reviewed in person at this same location.

SUPPLEMENTARY INFORMATION: The FAA proposes to rule and invites public comment on the application to impose and use the revenue from a PFC at the Mason City Municipal Airport under the provisions of the Aviation Safety and Capacity Expansion Act of 1990 (Title IX of the Omnibus Budget Reconciliation Act of 1990) (Pub. L. 101-508) and part 158 of the Federal Aviation Regulations (14 CFR part 158).

On March 21, 2003, the FAA determined that the application to impose and use the revenue from a PFC submitted by the Mason City Airport Commission, Mason City, Iowa, was substantially complete within the requirements of § 158.25 fo part 158. The FAA will approve or disapprove the application, in whole or in part, no later than June 19, 2003.

The following is a brief overview of the application.

Level of the proposed PFC: $4.50.

Proposed charge effective date: July, 2003.

Proposed charge expiration date: April, 2009.

Total estimated PFC revenue: $379,500.

Brief description of proposed project(s): Runway safety area improvements; runway edge drains, phase 2; reconstruct terminal and general aviation ramps; reconstruct terminal restrooms; aircraft passenger lift; replace windcone and install supplemental windcone; update airport master plan; rehabilitate Runway 17/35 (design); acquire land in runway protection zone; PFC consultation services.

Any person may inspect the application in person at the FAA office listed above under FOR FURTHER INFORMATION CONTACT.

In addition, any person may, upon request, inspect the application, notice and other documents germane to the application in person at the Mason City Municipal Airport. Issued in Kansas City, Missouri on March 21, 2003.

Jim Johnson,
Acting Manager, Airports Division, Central Region.

[FR Doc. 03-7675 Filed 3-28-03; 8:45 am]

BILLING CODE 4910-13-M